DEPARTMENT OF HEALTH AND HUMAN SERVICES

Centers for Disease Control and Prevention

[30Day-18-0792]

Agency Forms Undergoing Paperwork Reduction Act Review

In accordance with the Paperwork Reduction Act of 1995, the Centers for Disease Control and Prevention (CDC) has submitted the information collection request titled Environmental Health Specialists Network (EHS-NET) Program to the Office of Management and Budget (OMB) for review and approval. CDC previously published a “Proposed Data Collection Submitted for Public Comment and Recommendations” notice on April 17, 2018 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Environmental Health Specialists Network (EHS-NET) Program (OMB#0920-0792, expiration 9/30/2018)—Revision—National Center for Environmental Health (NCEH), Centers for Disease Control and Prevention (CDC).

Background and Brief Description

The National Center for Environmental Health (NCEH), Centers for Disease Control and Prevention (CDC), is requesting a three-year Paperwork Reduction Act (PRA) approval for the revision to the Environmental Health Specialists (EHS-Net) Program. The EHS-Net program focuses on identifying the environmental causes of foodborne illness. OMB approved the generic information collection for the EHS-Net program in October 2008, 2012, and 2015. To date, EHS-Net has had five genICs.

This revision will provide OMB clearance for EHS-Net data collections conducted in 2018 through 2021. The program is revising the generic information collection request in the following ways:

(1) The burden hours have increased to allow for additional statistical designs. The number of restaurants per site (8 EHS-Net sites, which has remained the same) has been increased from 47 to 50 restaurants (totaling 400 restaurants); the sample size was increased to detect a greater odds ratio and establish a stronger power.

(2) The number of respondents has increased to gather additional food worker responses per establishment. Collecting data from additional food workers (increased to 10 food workers per restaurant from 1 food worker per restaurant, totaling 4,000 food workers) will help minimize the potential bias of only having one worker represent all of food workers in a given establishment.

We expect to conduct up to three studies in a 5-year cooperative period; this is based on a more accurate study schedule in a 5-year EHS-Net cooperative agreement.

The goal of this information collection is to improve food safety and reduce foodborne illness, which supports the U.S. Department of Health and Human Services' Health People 2020 Goal. Reducing foodborne illness first requires identification and understanding of the environmental factors that cause these illnesses. We need to know how and why food becomes contaminated with foodborne illness pathogens. This information can then be used to determine effective food safety prevention methods. Ultimately, these actions can lead to increased regulatory program effectiveness and decreased foodborne illness. The purpose of the information collection is to gather data that will help us identify and understand environmental factors associated with foodborne illness. Environmental factors associated with foodborne illness include both food safety practices (e.g., inadequate cleaning practices) and the factors in the environment associated with those practices (e.g., worker and retail food establishment characteristics). The information collected through this collection will be used to:

(a) Describe retail food establishment food handling and food safety practices and manager/worker and establishment characteristics,

(b) Determine how retail food establishment and worker characteristics are related to food handling and food safety practices.

This program is conducted by the Environmental Health Specialists Network (EHS-Net), a collaborative project of CDC, FDA, USDA, and local and state sites. Through this collection, we will continue to collect data from those who prepare food (i.e., food workers) and on the environments in which the food is prepared (i.e., retail food establishment kitchens). Thus, data collection methods for this generic package include: (1) Screener, (2) manager and food worker interviews/surveys, and (3) observation of kitchen/restaurant environments. Both methods allow data collection on food safety practices and environmental factors associated with those practices.

For each data collection, we will collect data in approximately 50 retail food establishments per site. Thus, there will be approximately 400 establishments per data collection (an estimated 8 sites * 50 establishments). The total estimated annual burden for each data collection will be 1,777 hours.

Estimated Annualized Burden Hours
Type of respondents | Form name | Number of respondents | Number of responses per respondent | Average burden per response (in hours)
Managers | EHS-Net Manager Recruiting Script | 889 | 1 | 3/60
Managers | EHS-Net Manager Informed Consent and Interview | 400 | 1 | 30/60
Food Workers | EHS-Net Food Worker Recruiting Screener, Consent, and Interview | 4,000 | 1 | 20/60
HD staff | EHS-Net Restaurant Observation | 400 | 1 | 30/60

Jeffrey M. Zirger,
Acting Chief, Information Collection Review Office, Office of Scientific Integrity, Office of the Associate Director for Science, Office of the Director, Centers for Disease Control and Prevention.

[FR Doc. 2018-14797 Filed 7-10-18; 8:45 am]

BILLING CODE 4163-18-P